DEPARTMENT OF THE INTERIOR

Bureau of Land Management

[MT-962-05-1420-BJ]

Montana: Filing of Plats of Amended Protraction Diagrams

AGENCY: Bureau of Land Management, Montana State Office, Interior.

ACTION: Notice of filing of plats of amended protraction diagrams.

SUMMARY: The Bureau of Land Management (BLM) will file the plats of the amended protraction diagrams of the lands described below in the BLM Montana State Office, Billings, Montana, (30) days from the date of publication in the Federal Register.

FOR FURTHER INFORMATION CONTACT: Steven G. Schey, Acting Chief, Branch of Cadastral Survey, Bureau of Land Management, 5001 Southgate Drive, P.O. Box 36800, Billings, Montana, 59107-6800, telephone (406) 896-5009.

SUPPLEMENTARY INFORMATION: The amended protraction diagrams were prepared at the request of the U.S. Forest Service and are necessary to accommodate Revision of Primary Base Quadrangle Maps for the Geometronics Service Center.

The lands for the prepared amended protraction diagrams are:

Principal Meridian, Montana

Tps. 3, 4, 5, 6, 7, 8, and 9 S., Rs. 13, 14, 15, 16, 18, 19, and 20 E.

The plat, representing the Amended Protraction Diagram 6 Index of unsurveyed Townships 3, 4, and 5 South, Ranges 13, 14, 15, and 16 East, Principal Meridian, Montana, was accepted September 15, 2004.

The plat, representing Amended Protraction Diagram 6 of unsurveyed Township 3 South, Range 13 East, Principal Meridian, Montana, was accepted September 15, 2004.

The plat, representing Amended Protraction Diagram 6 of unsurveyed Township 3 South, Range 14 East, Principal Meridian, Montana, was accepted September 15, 2004.

The plat, representing Amended Protraction Diagram 6 of unsurveyed Township 3 South, Range 15 East, Principal Meridian, Montana, was accepted September 15, 2004.

The plat, representing Amended Protraction Diagram 6 of unsurveyed Township 4 South, Range 13 East, Principal Meridian, Montana, was accepted September 15, 2004.

The plat, representing Amended Protraction Diagram 6 of unsurveyed Township 4 South, Range 14 East, Principal Meridian, Montana, was accepted September 15, 2004.

The plat, representing Amended Protraction Diagram 6 of unsurveyed Township 5 South, Range 13 East, Principal Meridian, Montana, was accepted September 15, 2004.

The plat, representing Amended Protraction Diagram 6 of unsurveyed Township 5 South, Range 14 East, Principal Meridian, Montana, was accepted September 15, 2004.

The plat, representing Amended Protraction Diagram 6 of unsurveyed Township 5 South, Range 15 East, Principal Meridian, Montana, was accepted September 15, 2004.

The plat, representing Amended Protraction Diagram 6 of unsurveyed Township 5 South, Range 16 East, Principal Meridian, Montana, was accepted September 15, 2004.

The plat, representing the Amended Protraction Diagram 7 Index of unsurveyed Townships 6, 7, 8, and 9 South, Ranges 13, 14, 15, and 16 East, Principal Meridian, Montana, was accepted September 16, 2004.

The plat, representing Amended Protraction Diagram 7 of unsurveyed Township 6 South, Range 13 East, Principal Meridian, Montana, was accepted September 16, 2004.

The plat, representing Amended Protraction Diagram 7 of unsurveyed Township 6 South, Range 14 East, Principal Meridian, Montana, was accepted September 16, 2004.

The plat, representing Amended Protraction Diagram 7 of unsurveyed Township 6 South, Range 15 East, Principal Meridian, Montana, was accepted September 16, 2004.

The plat, representing Amended Protraction Diagram 7 of unsurveyed Township 6 South, Range 16 East, Principal Meridian, Montana, was accepted September 16, 2004.

The plat, representing Amended Protraction Diagram 7 of unsurveyed Township 7 South, Range 13 East, Principal Meridian, Montana, was accepted September 16, 2004.

The plat, representing Amended Protraction Diagram 7 of unsurveyed Township 7 South, Range 14 East, Principal Meridian, Montana, was accepted September 16, 2004.

The plat, representing Amended Protraction Diagram 7 of unsurveyed Township 7 South, Range 15 East, Principal Meridian, Montana, was accepted September 16, 2004.

The plat, representing Amended Protraction Diagram 7 of unsurveyed Township 7 South, Range 16 East, Principal Meridian, Montana, was accepted September 16, 2004.

The plat, representing Amended Protraction Diagram 7 of unsurveyed Township 8 South, Range 13 East, Principal Meridian, Montana, was accepted September 16, 2004.

The plat, representing Amended Protraction Diagram 7 of unsurveyed Township 8 South, Range 14 East, Principal Meridian, Montana, was accepted September 16, 2004.

The plat, representing Amended Protraction Diagram 7 of unsurveyed Township 8 South, Range 15 East, Principal Meridian, Montana, was accepted September 16, 2004.

The plat, representing Amended Protraction Diagram 7 of unsurveyed Township 8 South, Range 16 East, Principal Meridian, Montana, was accepted September 16, 2004.

The plat, representing Amended Protraction Diagram 7 of unsurveyed Township 9 South, Range 13 East, Principal Meridian, Montana, was accepted September 16, 2004.

The plat, representing Amended Protraction Diagram 7 of unsurveyed Township 9 South, Range 14 East, Principal Meridian, Montana, was accepted September 16, 2004.

The plat, representing Amended Protraction Diagram 7 of unsurveyed Township 9 South, Range 16 East, Principal Meridian, Montana, was accepted September 16, 2004.

The plat, representing the Amended Protraction Diagram 8 Index of unsurveyed Townships 7, 8, and 9 South, Ranges 17, 18, 19, and 20 East, Principal Meridian, Montana, was accepted September 16, 2004.

The plat, representing Amended Protraction Diagram 8 of unsurveyed Township 7 South, Range 17 East, Principal Meridian, Montana, was accepted September 16, 2004.

The plat, representing Amended Protraction Diagram 8 of unsurveyed Township 7 South, Range 18 East, Principal Meridian, Montana, was accepted September 16, 2004.

The plat, representing Amended Protraction Diagram 8 of unsurveyed Township 8 South, Range 17 East, Principal Meridian, Montana, was accepted September 16, 2004.

The plat, representing Amended Protraction Diagram 8 of unsurveyed Township 8 South, Range 18 East, Principal Meridian, Montana, was accepted September 16, 2004.

The plat, representing Amended Protraction Diagram 8 of unsurveyed Township 9 South, Range 17 East, Principal Meridian, Montana, was accepted September 16, 2004.

The plat, representing Amended Protraction Diagram 8 of unsurveyed Township 9 South, Range 18 East, Principal Meridian, Montana, was accepted September 16, 2004.

The plat, representing Amended Protraction Diagram 8 of unsurveyed Township 9 South, Range 19 East, Principal Meridian, Montana, was accepted September 16, 2004.

The plat, representing Amended Protraction Diagram 8 of unsurveyed Township 9 South, Range 20 East, Principal Meridian, Montana, was accepted September 16, 2004.

We will place copies of the plats of the amended protraction diagrams we described in the open files. They will be available to the public as a matter of information.

If BLM receives a protest against these amended protraction diagrams, as shown on these plats, prior to the date of the official filings, we will stay the filings pending our consideration of the protest.

We will not officially file these plats of the amended protraction diagrams until the day after we have accepted or dismissed all protests and they have become final, including decisions or appeals.

Dated: March 21, 2005.
Steven G. Schey,
Acting Chief, Branch of Cadastral Survey, Division of Resources.

[FR Doc. 05-6034 Filed 3-25-05; 8:45 am]

BILLING CODE 4310-$$-P